DEPARTMENT OF THE INTERIOR

U.S. Geological Survey

Interim Steering Committee for the National Climate Change and Wildlife Science Center

AGENCY: U.S. Geological Survey.

ACTION: Notice of open public meeting.

SUMMARY: Pursuant to Public Law 106-503, the Interim Steering Committee for the National Climate Change and Wildlife Science Center will hold a meeting to discuss priority wildlife climate change research needs of land management and natural resources agencies. Agenda topics will be provided under the SUPPLEMENTARY INFORMATION section of this notice. Meetings of the Interim Steering Committee for the National Climate Change and Wildlife Science Center are open to the public.

ADDRESSES: The meeting location is Main Interior Building, Department of the Interior, 1849 C Street, NW., Washington, DC 20240, Room B253.

DATES: September 23, 2008, commencing at 9:15 a.m. and adjourning at 12 p.m.

FOR FURTHER INFORMATION CONTACT: Robin Schrock, U.S. Geological Survey, 12201 Sunrise Valley Drive MS301, Reston, Virginia 20192, 703-648-4066, Robin_Schrock@usgs.gov.

SUPPLEMENTARY INFORMATION: The National Climate Change and Wildlife Science Center Interim Steering Committee is comprised of members from Federal and State government. The Interim Steering Committee shall advise the Director of the U.S. Geological Survey (USGS) on matters relating to the development of the National Climate Change and Wildlife Science Center.

Matters To Be Considered: The meeting will begin with Federal, State and non-governmental organizations provided an opportunity to discuss the agenda for the planned December Workshop on climate change and wildlife research needs. The committee will use common themes and unique needs identified in previous meetings, including modeling, forecasting, and technology transfer, to build a workshop program that will explore additional needs and address the current state of knowledge and management and policy implications. The meeting will conclude with identification of potential workshop speakers and invitees.

Dated: August 22, 2008.
Gladys Cotter,
Associate Chief Biologist for Information.

[FR Doc. E8-20023 Filed 8-28-08; 8:45 am]

BILLING CODE 4311-AM-P